DEPARTMENT OF ENERGY

Federal Energy Regulatory Commission

[Docket No. EC04-73-000, et al.]

Midwest Generation, LLC, et al.; Electric Rate and Corporate Filings

March 22, 2004.

The following filings have been made with the Commission. The filings are listed in ascending order within each docket classification.

1. Midwest Generation, LLC; Nesbitt Asset Recovery, Series C-1; Nesbitt Asset Recovery, Series C-2; Nesbitt Asset Recovery, Series C-3; Nesbitt Asset Recovery, Series C-4

[Docket No. EC04-73-000]

Take notice that on March 18, 2004, Midwest Generation, LLC; Nesbitt Asset Recovery, Series C-1; Nesbitt Asset Recovery, Series C-2; Nesbitt Asset Recovery, Series C-3; and Nesbitt Asset Recovery, Series 4 (collectively, the Applicants) filed a supplement to their application filed March 12, 2004 in the above-referenced Docket No. pursuant to section 203 of the Federal Power Act for authorization of the disposition of jurisdictional facilities in connection with the termination of a sale and leaseback transaction involving the Collins Generating Station, a 2,698-MW generating plant located in Morris, Illinois.

Comment Date: April 2, 2004.

2. Exelon New England Holdings, LLC et al., EBG Holdings LLC

[Docket No. EC04-77-000]

Take notice that on March 19, 2004, Exelon New England Holdings, LLC (Exelon New England), Boston Generating, LLC (Boston Generating), and EBG Holdings, LLC (EBG Holdings) filed with the Commission an application, pursuant to section 203 of the Federal Power Act, and Part 33 of the Commission's regulations, seeking authorization for the transfer of one hundred (100) percent of the membership interests of Boston Generating owned by Exelon New England from Exelon New England to EBG Holdings. The applicants request expedited consideration of the application.

Comment Date: April 9, 2004.

3. Black River Generation, LLC

[Docket No. EG04-39-000]

Take notice that on March 18, 2004, Black River Generation, LLC, (Black River Generation) tendered for filing with the Commission an Application for Determination of Exempt Wholesale Generator Status pursuant to section 32 of the Public Utility Holding Company Act of 1935, as amended, and Part 365 of the Commission's Regulations. Black River Generation states that it will lease and operate the Fort Drum Project, which is located at the Fort Drum Army base near Watertown, New York, until June 30, 2005, at which time it will acquire the Project.

Black River Generation states that copies of the Application have been served on the New York Public Service Commission and the U.S. Securities and Exchange Commission.

Comment Date: April 8, 2004.

4. Frederickson Power, L.P.

[Docket No. EG04-40-000]

Take notice that on March 12, 2004, Frederickson Power L.P. (Frederickson) tendered for filing a Notification of Change in Facts and Request for Confirmation of Exempt Wholesale Generator Status.

Comment Date: April 2, 2004.

5. Pacific Gas and Electric Company

[Docket Nos. ER99-2326-007 and EL99-68-007]

Take notice that on March 17, 2004, Pacific Gas and Electric Company (PG&E) submitted a compliance filing and refund report with respect to its third Transmission Owner Tariff (TO Tariff) in compliance with the Commission's Orders dated August 28, 2003 and February 17, 2004, Pacific Gas and Electric Co., 104 FERC ¶ 61,226 and 106 FERC ¶ 61,144.

PG&E states that copies of this filing have been served upon the California Independent System Operator Corporation, the California Public Utilities Commission, and the parties to the official service lists in the affected dockets.

Comment Date: April 7, 2004.

6. Boston Edison Company

[Docket Nos. ER01-890-007 and ER02-1465-002]

Take notice that on March 18, 2004, Boston Edison Company (Boston Edison) submitted a compliance filing pursuant to the order issued on February 17, 2004 in Docket No. ER01-890-004, et al., 106 FERC ¶ 61,150 (2004).

Boston Edison states that copies of said filing have been served upon all persons included on the official service list in this proceeding.

Comment Date: April 8, 2004.

7. Entergy Services, Inc.

Docket No. ER03-1140-003]

Take notice that on March 18, 2004, Entergy Services, Inc., (Entergy) on behalf of Entergy Arkansas, Inc., Entergy Gulf States, Inc., Entergy Louisiana, Inc., Entergy Mississippi, Inc., and Entergy New Orleans, Inc., submitted a compliance filing incorporating revisions to section 11.2(iv) of the creditworthiness provisions of Entergy's Open Access Transmission Tariff as required by the Commission's Order issued February 17, 2004 in Docket No. ER03-1140-001 and 002. 106 FERC ¶ 61,142 (2004).

Comment Date: April 8, 2004.

8. Virginia Electric and Power Company

[Docket No. ER04-561-001]

Take notice that on March 16, 2004, Virginia Electric and Power Company (Dominion Virginia Power) tendered for filing an amended application of the Ninth Amended Service Agreements for Sempra Energy Trading Corp under the Company's Open Access Transmission Tariff, FERC Electric Tariff, Second Revised Volume No. 5, to Eligible Purchasers dated June 7, 2000:

1. Ninth Amended Service Agreement for Firm Point-To-Point Transmission Service designated Tenth Revised Service Agreement No. 253 under the Company's FERC Electric Tariff, Second Revised Volume No. 5;

2. Ninth Amended Service Agreement for Non-Firm Point-To-Point transmission Service designated Tenth Revised Service Agreement No. 49 under the Company's FERC Electric Tariff, Second Revised Volume no. 5.

Dominion Virginia Power respectfully renews its requests for an effective date of January 17, 2003.

Comment Date: April 6, 2004.

9. RWE Trading Americas Inc.

[Docket No. ER04-661-000]

Take notice that on March 18, 2004, RWE Trading Americas Inc. (RWE Trading) tendered for filing a Notice of Cancellation of its FERC Electric Tariff, Original Volume No. 1 (Tariff). RWE Trading requested an effective date of May 19, 2004.

Comment Date: April 8, 2004.

10. Entergy Services, Inc.

[Docket No. ER04-663-000]

Take notice that on March 18, 2004, Entergy Services, Inc. (Entergy Services) submitted for filing on behalf of Entergy Arkansas, Inc. (EAI) a 2004 Wholesale Formula Rate Update in accordance with: (1) The Power Coordination, Interchange and Transmission Service Agreements between EAI and the Cities of Conway, West Memphis and Osceola Arkansas; the cities of Campbell and Thayer, Missouri; and the Arkansas Electric Cooperative Corporation; (2) the Transmission Service Agreement (TSA) between EAI and the City of Hope, Arkansas; (3) the TSA between EAI and the Louisiana Energy & Power Authority; (4) the Wholesale Power Service Agreement (WPSA) between EAI and the City of Prescott, Arkansas; and (5) the WPSA between EAI and the Farmers Electric Cooperative Corporation. In addition, Energy Services states that the distribution rate charged to the City of North Little Rock pursuant to the Network Integration Transmission Service Agreement is also redetermined by this filing.

Comment Date: April 8, 2004.

Standard Paragraph

Any person desiring to intervene or to protest this filing should file with the Federal Energy Regulatory Commission, 888 First Street, NE., Washington, DC. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-691 Filed 3-26-04;8:45 am]

BILLING CODE 6717-01-P